SECURITIES AND EXCHANGE COMMISSION

[Release No. 34-59185; File No.

SR-NYSE-2008-141]

Self-Regulatory Organizations; New York Stock Exchange LLC; Notice of Filing and Order Granting Accelerated Approval of Proposed Rule Change To Extend the Pilot Period for the NYSE Realtime Reference Prices Pilot Program

Correction

In notice document E9-9 beginning on page 749 in the issue of Wednesday, January 7, 2009 make the following correction:

On page 750, in the third column, in the last line of the first paragraph, “January 27, 2009” should read “January 28, 2009”.

[FR Doc. Z9-9 Filed 1-28-09; 8:45 am]

BILLING CODE 1505-01-D